DEPARTMENT OF DEFENSE

Department of the Army

Intent To Grant an Exclusive License of a U.S. Government-Owned Patent

AGENCY: Department of the Army, DoD.

ACTION: Notice.

SUMMARY: In accordance with 35 U.S.C. 209 and 37 CFR 404.7(a)(1)(i), announcement is made of the intent to grant an exclusive, royalty-bearing, revocable license within the geographic area of the United States of America and its territories and possessions to U.S. Patent 6,669,481, issued December 30, 2003 entitled “Neurocognitive Assessment Apparatus And Method;” Continuation-in-part U.S. Patent Application 10/614,758, filed July 8, 2003 entitled “Automated Neurological Assessment Metrics (Anam);” U.S. Provisional Patent Application 60/289,125, filed May 8, 2001 entitled “Automated Neurological Assessment Metrics;” U.S. Provisional Patent Application 60/663,765, filed March 22, 2005 entitled “System, Method, And Computer Program Product For An Automated Neuropsychological Test;” U.S. Patent Application 10/340,473, filed December 27, 2002, to The University of Oklahoma with its principal place of business at 350 David L. Boren Boulevard, Suite 1510, Norman, Oklahoma 73072-7264.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Anyone wishing to object to the grant of this license can file written objections along with supporting evidence, if any, within 15 days from the date of this publication. Written objections are to be filed with the Command Judge Advocate, U.S. Army Medical Research and Materiel Command, 504 Scott Street, Fort Detrick, Frederick, MD 21702-5012.

Brenda S. Bowen,
Army Federal Register Liaison Officer.

[FR Doc. 06-106 Filed 1-5-06; 8:45 am]

BILLING CODE 3710-08-M